DEPARTMENT OF HOMELAND SECURITY

Coast Guard

33 CFR Part 167

[USCG-2018-1058]

Extension of Comment Period for the Port Access Route Study: Alaskan Arctic Coast

AGENCY: Coast Guard, DHS.

ACTION: Notice of extension of comment period.

SUMMARY: The United States Coast Guard is extending the comment period for the notice of study and request for comments for the Port Access Route Study: Alaskan Arctic Coast that we published on December 21, 2018. This action will provide the public with additional time and opportunity to provide the Coast Guard with information regarding the Port Access Route Study: Alaskan Arctic Coast. The comment period is extended until January 30, 2020.

DATES: Comments and related material must be received by the Coast Guard on or before January 30, 2020.

ADDRESSES: You may submit comments identified by docket number USCG-2018-1058 using the Federal eRulemaking Portal at https://www.regulations.gov. If your material cannot be submitted using https://www.regulations.gov, contact the person in the FOR FURTHER INFORMATION CONTACT section of this document for alternate instructions.

FOR FURTHER INFORMATION CONTACT: If you have questions about this notice, please contact LCDR Michael Newell, Seventeenth Coast Guard District (dpw), at telephone number (907) 463-2263 or email Michael.D.Newell@uscg.mil, or Mr. David Seris, Seventeenth Coast Guard District (dpw), at telephone number (907) 463-2267 or email to David.M.Seris@uscg.mil, or LT Stephanie Bugyis, Seventeenth Coast Guard District (dpw), at telephone number (907) 463-2265 or email to Stephanie.M.Bugyis@uscg.mil.

SUPPLEMENTARY INFORMATION: On December 21, 2018, the Coast Guard published a notice of study and request for comments for the Port Access Route Study: Alaskan Artic Coast (83 FR 65701). The comment period in that document closed September 1, 2019. In this action, the Coast Guard is providing notice that the public comment period is extended until January 30, 2020. Documents mentioned in this notice, and all public comments, are in our online docket at https://www.regulations.gov and can be viewed by searching the docket number “USCG-2018-1058”.

This notice is issued under authority of 33 U.S.C. 1223(c) and 5 U.S.C. 552.

Dated: August 29, 2019.
Matthew T. Bell, Jr.,
Rear Admiral, U.S. Coast Guard, Commander, Seventeenth Coast Guard District.

[FR Doc. 2019-19080 Filed 9-3-19; 8:45 am]

BILLING CODE 4910-15-P